DEPARTMENT OF LABOR

Employment and Training Administration

[TA-W-57,794]

Cognis Corporation Cincinnati, OH; Notice of Negative Determination on Reconsideration

On November 29, 2005, the Department issued an Affirmative Determination Regarding Application for Reconsideration for the workers and former workers of Cognis Corporation, Cincinnati, Ohio. The Department's Notice was published in the Federal Register on March 2, 2006 (71 FR 10708).

The negative determination was based on the findings that there was no shift of specialty chemical production abroad by the subject firm and no increased imports of specialty chemicals during the relevant period. Workers produce specialty chemicals, including fatty acids, glycerin, and ozone acids, and are not separately identifiable by product line.

In the request for reconsideration, the United Steelworkers of America, Local 14340, asserted that workers produced “certain oleo chemical products and fatty alcohol products which are sold to other companies for use as ingredients or additives in those companies' products such as cosmetics, soaps, tires, and paints.” The Union also asserted that increased imports of articles like or directly competitive with those produced by the subject firm had contributed to the workers' separations.

During the reconsideration investigation, the Department contacted the Union and the subject company to ascertain what product was made by the worker group and the reason(s) for the worker separations. The product at issue are APG surfactants.

According to the Union and the company official, a major customer reformulated its product to use a blend of chemicals that has the same effect as the chemical purchased from the subject firm, alkyl polyglycoside (APG) surfactants, and, as a result, ceased purchasing APG surfactants from the subject firm. APG surfactants are used commercially in cleaning products.

During the reconsideration investigation, the Department collected sales, production, and import data from the subject company regarding APG surfactants and conducted a survey of the major declining customer regarding its purchases of APG surfactants during 2003, 2004, January through August 2004, and January through August 2005.

A careful review of the information provided by the subject company revealed reduced production of APG surfactants, no increased imports of APG surfactants, and no shift of APG surfactants production abroad during the relevant period.

According to the customer, there is no one chemical which is like or directly competitive with APG surfactants because of its specific characteristics. The survey result revealed that the customer did not have any import purchases of APG surfactants during the relevant period.

Conclusion

After careful reconsideration, I affirm the original notice of negative determination of eligibility to apply for worker adjustment assistance for workers and former workers of Cognis Corporation, Cincinnati, Ohio.

Signed at Washington, DC this 14th day of March 2006.
Elliott S. Kushner,
Certifying Officer, Division of Trade Adjustment Assistance.

[FR Doc. E6-4297 Filed 3-23-06; 8:45 am]

BILLING CODE 4510-30-P